Title 3—

The President

Memorandum of July 7, 2023

Delegation of Authority Under Section 506(a)(1) and Section 614(a)(1) of the Foreign Assistance Act of 1961

Memorandum for the Secretary of State

By the authority vested in me as President by the Constitution and the laws of the United States of America, including section 621 of the Foreign Assistance Act of 1961 (FAA), I hereby delegate to the Secretary of State:

(1) the authority under section 506(a)(1) of the FAA to direct the drawdown of up to $800 million in defense articles and services of the Department of Defense, and military education and training, to provide assistance to Ukraine and to make the determinations required under such section to direct such a drawdown; and

(2) the authority under section 614(a)(1) of the FAA to determine whether it is important to the security interests of the United States to furnish up to $122 million in assistance to Ukraine without regard to any provision of law within the purview of section 614(a)(1) of the FAA.

You are authorized and directed to publish this memorandum in the Federal Register.

THE WHITE HOUSE,

Washington, July 7, 2023

[FR Doc. 2023-15010

Filed 7-12-23; 8:45 am]

Billing code 4710-10-P